ENVIRONMENTAL PROTECTION AGENCY

[FRL-7104-6]

Proposed Assessment of Clean Water Act Class II Administrative Penalty and Opportunity To Comment

AGENCY: Environmental Protection Agency (EPA).

ACTION: Notice.

SUMMARY: EPA is providing notice of a proposed administrative penalty for an alleged violation of the Clean Water Act by Chevron U.S.A., Inc. EPA is also providing notice of opportunity to comment on the proposed penalty.

EPA is authorized under section 311(b)(6) of the Clean Water Act, 33 U.S.C. 1321(b)(6), to assess a civil penalty after providing the person subject to the penalty notice of the proposed penalty and the opportunity for a hearing, and after providing interested persons public notice of the proposed penalty and a reasonable opportunity to comment on its issuance. Under section 311(b)(6), any owner, operator, or person in charge of a vessel, onshore facility, or offshore facility in violation of the regulations issued under section 311(j) of the Clean Water Act, 33 U.S.C. 1321(j), (“Oil Pollution Prevention Regulations” -40 CFR part 112) may be assessed a civil penalty of up to $137,500 by EPA in a “Class II” administrative penalty proceeding. Class II proceedings under section 311(b)(6) of the Clean Water Act are conducted in accordance with the “Consolidated Rules of Practice Governing the Administrative Assessment of Civil Penalties and the Revocation and Suspension of Permits at 40 CFR part 22 (“part 22”)”.

Pursuant to section 311(b)(6)(C) of the Clean Water Act, 33 U.S.C. 1321(b)(6)(C), EPA is providing notice of the following proposed Class II penalty proceeding initiated by the Superfund Division, U.S. EPA, Region 9, 75 Hawthorne Street, San Francisco, CA 94105:

In the Matter of Chevron U.S.A., Inc. (Chevron) Spill Violations, Docket No. OPA-9-2001-0001, filed September 28, 2001; EPA has proposed penalty of $65,000; for a violation of the Clean Water Act's prohibition on discharges of oil into waters of the United States at the Jet A fuel pipeline at Chevron's Honolulu Terminal in Honolulu Harbor, Honolulu, Hawaii.

The procedures by which the public may submit written comments on a proposed Class II penalty order or participate in a Class II penalty proceeding are set forth in part 22. The deadline for submitting public comment on a proposed Class II order is thirty days after issuance of public notice.

FOR FURTHER INFORMATION CONTACT: Persons wishing to receive a copy of part 22, review the Complaint or other documents filed by the parties in this proceeding, comment upon the proposed penalty assessment, or participate in any hearing that may be held, should contact Danielle Carr, Regional Hearing Clerk (RC-1), U.S. EPA, Region 9, 75 Hawthorne Street, San Francisco, CA 94105, (415) 972-3871. Documents filed as part of the public record in this proceeding are available for inspection during business hours at the office of the Regional Hearing Clerk.

In order to provide opportunity for public comment, EPA will not take final action in this proceeding prior to thirty days after issuance of this notice.

Dated: November 6, 2001.
Jane Diamond,
Acting Director, Superfund Division, Region IX.

[FR Doc. 01-28855 Filed 11-16-01; 8:45 am]

BILLING CODE 6560-50-P